DEPARTMENT OF HEALTH AND HUMAN SERVICES

Indian Health Service

Research and Demonstration Projects for Indian Health

AGENCY: Indian Health Service, HHS.

ACTION: Notice of single source cooperative agreement with the National Council of Urban Indian Health.

SUMMARY: The Indian Health Service (IHS) announces the award of a cooperative agreement to the National Council of Urban Indian Health (NCUIH) for demonstration project for urban Indian health care education, consultation, health care data dissemination, training, and technical assistance to determine the unmet health care needs of urban Indians and to assist the Secretary in assessing the health status and health care of urban Indians. The project is for a three year project period effective September 1, 2005 to August 31, 2008. Annual funding for the project is $417,000.

The award is issued under the authority of the Public Health Service Act, Section 301 and the Indian Health Care Improvement Act, Public Law 94-437, Sections 503, 504, and 511, and is listed under Catalog of Federal Domestic Assistance number 93-933.

The specific objectives of the project are:

1. NCUIH will keep the Urban Indian health programs and the IHS informed of items of interest pertaining to the health status and unmet needs of urban Indians and the federal budget process by reviewing activities that have taken place in regard to Indian health care.

2. To disseminate information relative to Title V, local Urban Indian health issues, training opportunities, research instruments, data, budget, NCUIH activities and various forms of technical assistance to the Urban Indian health programs, keeping IHS informed of activities taking place.

3. To disseminate information and respond to all inquiries relative to Title V, local Urban Indian health issues, training opportunities, research instruments, data, budget, NCUIH activities and will issue a quarterly newsletter and develop a web page.

4. To coordinate meetings for the Urban Indian health programs to provide training, technical assistance, and/or updated information addressing the health care needs of Urban Indians.

Reporting Requirements:

1. Monthly Activity Report: The organization will provide to the IHS program office a monthly report detailing activities performed for the organization. These activity reports will include:

• Trip reports for travel in connection to the organization

• Information on meetings attended by NCUIH regarding Indian health care education activities, and any documentation provided by NCUIH at these meetings

• Information relative to health status and health care needs of urban Indians in urban centers

2. Program Progress Report: Program progress reports are required semi-annually. These reports will include brief comparison of actual accomplishments to the goals established for the period, reasons for slippage (if applicable), and other pertinent information as required. A final report is to be submitted within 90 days of expiration of the budget/project period.

3. Financial Status Report: Financial status reports are required semi-annually. Standard Form 269 (long form) will be used for financial reporting. A final report must be submitted within 90 days of expiration of the budget/project period.

4. Financial Audit: A financial audit, conducted by an independent auditor will be completed annually for each year within the project period (three).

Failure to submit required reports within the time allowed may result in suspension or termination of the active cooperative agreement, withholding of payments or converting to the reimbursement method of payment. Continued failure to submit required reports may result in the imposition of special award provisions, or cause other eligible projects or activities involving the grantee organization not to be funded.

Justification for Single Source: This project has been awarded on a non-competitive single source basis. NCUIH is the only nationwide Indian organization that is specifically established to address the health needs of American Indians and Alaska Natives living in urban areas with membership consisting of Urban Indian health organizations funded under Title V of the Indian Health Care Improvement Act, Public Law 93-437, as amended, and under authority 25 U.S.C. 1652. Furthermore, it is the only nationwide organization for urban American Indians and Alaska Natives supporting the growth of the Urban Indian health care delivery system.

Use of Cooperative Agreement: A cooperative agreement has been awarded because of anticipated substantial Programmatic involvement by IHS staff in the project. Substantial programmatic involvement is as follows:

1. IHS staff will participate in the Board of Director meetings. Purposes will be to present the IHS prospectus on current health care issues affecting the Urban Indian people and allow IHS the opportunity to hear the continuing unmet needs of Urban Indians.

2. IHS staff may, at the request of NCUIH, participate on study groups and may recommend topics for consideration.

3. IHS will be involved in the selection and approval process for hiring key personnel. Key personnel are the Executive Director, the Office Administrator, and may include the hiring of major consultants. NCUIH must submit the Executive Director and Office Administrator selection criteria to IHS for approval when there becomes a change in staffing.;

4. IHS will be involved in meetings held by NCUIH.

Contacts: For program information, contact Ms. Danielle Steward, Program Specialist, Office of Urban Indian Health Programs, Office of the Director, Indian Health Service, Reyes Building, 801 Thompson Avenue, Rockville, MD, 20852, (301) 443-4680. For grants management information, contact Lois Hodge, Grants Management Officer, Division of Grants Operations, Reyes Building, 801 Thompson Avenue, Rockville, MD, 20852, (301) 443-5204.

Dated: August 19, 2005.
Mary Lou Stanton,
Deputy Director for Indian Health Policy Indian Health Service.

[FR Doc. 05-16912 Filed 8-24-05; 8:45 am]

BILLING CODE 4156-16-M